SMALL BUSINESS ADMINISTRATION

Region II Advisory Council Meeting; Public Meeting

The U.S. Small Business Administration Region II Advisory Council located in the geographical area of Buffalo, New York, will hold a public meeting at 10 a.m. on April 18, 2001, at the Erie County Industrial Development Agency, 275 Oak Street, Buffalo, New York to discuss matters that may be presented by members of the Advisory Council, staff of the U.S. Small Business Administration or others present. For further information, write or call: Franklin J. Sciortino, District Director, U.S. Small Business Administration, 111 West Huron Street, Suite 1311, Buffalo, New York 14202, (716) 551-4301.

Franklin J. Sciortino,
District Director, Small Business Administration.

[FR Doc. 01-7172 Filed 3-22-01; 8:45 am]

BILLING CODE 8025-01-P